DEPARTMENT OF THE INTERIOR

Fish and Wildlife Service

[FWS-R3-OSA-2024-0064; FXSC142003MON30-245-FF03S00000; OMB Control Number 1018-New]

Agency Information Collection Activities; Pollinator Conservation Social Network Analysis Survey

AGENCY: Fish and Wildlife Service, Interior.

ACTION: Notice of information collection; request for comment.

SUMMARY: In accordance with the Paperwork Reduction Act of 1995, we, the U.S. Fish and Wildlife Service (Service), are proposing a new information collection.

DATES: Interested persons are invited to submit comments on or before July 22, 2024.

ADDRESSES: Send your comments on the information collection request (ICR) by one of the following methods (reference Office of Management and Budget (OMB) Control Number 1018-PCSNAS in the subject line of your comment):

• Internet (preferred): https://www.regulations.gov. Follow the instructions for submitting comments on Docket No. FWS-R3-OSA-2024-0064.

• U.S. mail: Service Information Collection Clearance Officer, U.S. Fish and Wildlife Service, 5275 Leesburg Pike, MS: PRB (JAO/3W), Falls Church, VA 22041-3803.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Fish and Wildlife Act of 1956 (16 U.S.C. 742d) designates the Department of the Interior as a key agency responsible for the conservation and protection of wildlife and fisheries resources in the United States. This responsibility dictates that we gather accurate data on conservation efforts through means such as research to improve the development, management, and advancement of efforts. At the June 2022 Monarch Butterfly Summit, the Secretary of the Interior announced that the U.S. Fish and Wildlife Service would establish a national Center for Pollinator Conservation, funded through annual appropriations. Formally launched later that year, the Center serves as a science and collaboration hub across internal Service programs and regions as well as with external agencies and partners. The Center helps to direct conservation actions that can reverse declining pollinator population trends.

The Service's Center for Pollinator Conservation is seeking to conduct a social network analysis to collect information regarding the structure and functions of pollinator networks throughout the country, key influencers and network clusters, network gaps, and the diffusion of information across the broad pollinator conservation community. The proposed survey collects information necessary to support the Center's role as a science and collaboration hub helping inform evidence-based decisions to create, sustain, and strengthen relationships and communication channels across individuals and organizations to increase awareness of, collaboration on, and efficacy of pollinator conservation efforts.

In addition to an overview of the survey (Section 1), the proposed survey collects the following information:

• Respondent's organization and its involvement in pollinator conservation efforts (Section 2);

• Collaboration on pollinator conservation, including identification of collaborative organizations and collaboration types (Section 3);

• Network characteristics, including how organizations work together and potential barriers (Section 4);

• Respondent's role within their organization, along with name and email address (Section 5); and

• Additional comments on the survey or pollinator conservation in general (Section 6).

We will use the information collected in this effort to develop multiple products aimed at translating the data into information that can strengthen partnerships, identify gaps, and inform conservation decisions.

The public may request a copy of the draft survey instrument by sending a request to the Service Information Collection Clearance Officer (see ADDRESSES, above).

Title of Collection: Pollinator Conservation Social Network Analysis.

OMB Control Number: 1018-New.

Form Number: None.

Type of Review: New.

Respondents/Affected Public: Private sector and government respondents (e.g., Federal, State, Tribal, nongovernmental organizations (NGOs), academic, etc.) that work on pollinator conservation efforts throughout North America, with primary focus in the United States.

Total Estimated Number of Annual Respondents: 365 (160 private sector respondents, including academic entities and NGOs, and 205 State/Local/Tribal/Federal agencies/organizations).

Total Estimated Number of Annual Responses: 365.

Estimated Completion Time per Response: 20 minutes.

Total Estimated Number of Annual Burden Hours: 122.

Respondent's Obligation: Voluntary.

Frequency of Collection: One time.

Total Estimated Annual Nonhour Burden Cost: None.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2024-11161 Filed 5-21-24; 8:45 am]

BILLING CODE 4333-15-P